DEPARTMENT OF DEFENSE

Department of the Army

Privacy Act of 1974; System of Records

AGENCY: Department of the Army, DoD.

ACTION: Notice to Amend Systems of Records.

SUMMARY: The Department of the Army is amending three systems of records notices in its existing inventory of records systems subject to the Privacy Act of 1974 (5 U.S.C. 552a), as amended.

Throughout the three notices, ‘Department of Defense Computer Institute’ and ‘DODCI” are being changed to ‘Information Resources Management College’ and ‘IRMC’.

DATES: This proposed action would be effective without further notice on January 17, 2002 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974 (5 U.S.C. 552a), as amended, have been published in the Federal Register and are available from the address above.

The specific changes to the records system being amended are set forth below followed by the notice, as amended, published in its entirety. The proposed amendments are not within the purview of subsection (r) of the Privacy Act of 1974 (5 U.S.C. 552a), as amended, which requires the submission of a new or altered system report.

Dated: December 12, 2001.
L.M. Bynum,
Alternate OSD Federal Register Liaison Officer, Department of Defense.

A0351a NDU-CI

System name:

DODCI Student Record System (February 22, 1993, 58 FR 10002).

Changes:

System identifier:

Delete entry and replace with A0351a IRMC.

System name:

Delete entry and replace with ‘Information Resources Management College Record System’.

Categories of individuals covered by the system:

Delete from entry ‘as regular students’ and ‘other’.

Categories of records in the system:

Delete entry and replace with ‘Individual’s name, Social Security Number, home address, home telephone number, military rank, civilian grade, branch of service, course ID, activity and consolidated list of students, names, courses and their activities.’

Authority for maintenance of the system:

Delete entry and replace with ‘10 U.S.C. 3013, Secretary of the Army; Army Regulation 351-1, Individual Military Education and Training; Army Regulation 351-9, Inter-service Education and Training; and E.O. 9397 (SSN).’

* * * * *

Retention and disposal:

Delete entry and replace with ‘Records are maintained for a total of 40 years. Current file is maintained until no longer needed, then retired to a records holding area. The records holding area will retire the military records to National Personnel Records Center, 9700 Page Avenue, St. Louis, MO 63132-5100 when records are ten years old.’

* * * * *

Record source categories:

Delete parenthetical phrase.

* * * * *

A0351a IRMC

System name:

Information Resources Management College Record System.

System location:

Information Resources Management College, Washington Navy Yard, Washington, DC 20374-5000.

Categories of individuals covered by the system:

All students who have completed a course of instruction presented by the Information Resources Management College (IRMC). These are primarily DoD military and civilian personnel; personnel from federal, state and local government agencies who have attended courses on a space available basis; military and civilian personnel from foreign governments who requested and were granted authority to attend courses; and personnel from private industry who are under direct contract to a DoD activity who sponsor their attendance.

Categories of records in the system:

Individual's name, Social Security Number, home address, home telephone number, military rank, civilian grade, branch of service, course ID, activity and consolidated list of students, names, courses and their activities.

Authority for maintenance of the system:

10 U.S.C. 3013, Secretary of the Army; Army Regulation 351-1, Individual Military Education and Training; Army Regulation 351-9, Inter-service Education and Training; and E.O. 9397 (SSN).

Purpose(s):

Maintained by IRMC Student Operations Section to respond to individuals requesting official verification of attendance to a specific course; to respond to students, agency or activity requesting official record of training completed. Used to compile statistical data of student output, e.g., attendance by course, attendance by branch of service, agency or activity. Statistical data is not compiled by name.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Card file, paper copies forms, and hard disk/magnetic tape.

Retrievability:

Name and course ID.

Safeguards:

Maintained in an administrative office, which is locked after normal working hours, accessible only to authorized office staff and director or delegate on demand.

Retention and disposal:

Records are maintained for a total of 40 years. Current file is maintained until no longer needed, then retired to a records holding area. The records holding area will retire the military records to National Personnel Records Center, 9700 Page Avenue, St. Louis, MO 63132-5100 when records are ten years old.

System manager(s) and address:

Chief, Student Operations Section, Information Resources Management College, Building 175, Washington Navy Yard, Washington, DC 20374-5000.

Notification procedure:

Individuals seeking to determine whether this system of records contains information about themselves should address written inquiries to the Chief, Student Operations Section Information Resources Management College, Building 175, Washington Navy Yard, Washington, DC 20374-5000.

Individual should provide full name and course attended.

Record access procedures:

Individuals seeking to access records about themselves contained in this system of records should address written inquiries to the Chief, Student Operations Section, Information Resources Management College, Building 175, Washington Navy Yard, Washington, DC 20374-5000.

Individual should provide full name and course attended.

Contesting record procedures:

The Army rules for accessing records, and for contesting contents and appealing initial agency determinations are contained in Army Regulation 340-21; 32 CFR part 505; or may be obtained from the system manager.

Record source categories:

Enrollment and registration request for DoD management education and training program courses, and course listing of students reviewed by course manager and individual students.

Exemptions claimed for the system:

None.

A0351b NDU-CI

System name:

DODCI Student/Faculty/Senior Staff Biography System (February 22, 1993, 58 FR 10002).

Changes:

System identifier:

Delete entry and replace with ‘A0351b IRMC’.

* * * * *

A0351b IRMC

System name:

IRMC Student/Faculty/Senior Staff Biography System.

System location:

Information Resources Management College, Washington Navy Yard, Washington, DC 20374-5000.

Categories of individuals covered by the system:

All faculty members, senior staff members, and guest lecturers currently instructing or managing at the Information Resources Management College (IRMC). All students who are attending or who have completed a course of instruction presented by the Information Resources Management College. These are primarily DoD military and civilian personnel as regular students; personnel from other federal, state and local government agencies who have attended courses on a space available basis; military and civilian personnel from foreign governments who requested and were granted authority to attend courses; and personnel from private industry who are under direct contract to a DoD activity who sponsor their attendance.

Categories of records in the system:

Biographic summary forms individually submitted upon request by each IRMC faculty member, senior staff member, guest lecturer, or student. Students record consists of name, rank or rate, civilian grade, organization and division, office phone number, current and previous job titles and positions, number of months with present job title, major duties of present job, formal education completed, course ID, objectives for attending IRMC course, computer-related and other technical training and experience, information on usage of computers in present position, influence and authority student has over design of computer-based systems including security and privacy aspects, extent involved in planning and design of teleprocessing systems.

Faculty/senior staff record consists of name, rank or rate, current and previous job titles and positions, former major duties, formal education completed, computer-related and other technical training experience.

Authority for maintenance of the system:

5 U.S.C. 301, Departmental Regulations.

Purpose(s):

The student biographical summaries are used by course managers and functional department heads to evaluate education level, computer related work experience, and general computer background of IRMC students. Establishes student qualifications to attend a requested course and if course objectives have satisfied personal objectives of students attending course. Statistical summarization of information contained in the system provides basis for modification and revision to course content. Serves as vehicle to place student into appropriate laboratory and seminar group in courses requiring such a breakout.

Information on faculty/senior staff members contained in the biographical summaries is provided to students as an attachment to their student notebooks. Records are used to identify faculty and senior staff members, areas of data processing and information management expertise for consultation purposes and as an expertise preamble to the next scheduled lecturer.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Paper records and computer hard disk/magnetic tape.

Retrievability:

By name for faculty/senior staff members. Course ID and name for students.

Safeguards:

Maintained in Student Operations Section which is locked after normal working hours, access controlled by system manager and accessible only to authorized faculty members, director or administration, and director or delegate on demand.

Retention and disposal:

All completed individual student biographical summaries are retained in a file folder marked by course ID and course date. Individual student biographical summaries are retained by course for two fiscal years preceding the fiscal year in progress. All individual faculty and senior staff biographical summaries are retained in a master file folder until no longer providing services to IRMC. Master file is reviewed periodically to maintain currency.

System manager(s) and address:

Chief, Student Operations Section, Information Resources Management College, Building 175, Washington Navy Yard, Washington, DC 20374-5000.

Notification procedure:

Individuals seeking to determine whether information about themselves is contained in this system should address written inquiries to the Chief, Student Operations Section, Information Resources Management College, Building 175, Washington Navy Yard, Washington, DC 20374-5000.

Individual should provide course title and year of attendance.

Record access procedures:

Individuals seeking access to information about themselves contained in this system should address written inquiries to the Chief, Student Operations Section, Information Resources Management College, Building 175, Washington Navy Yard, Washington, DC 20374-5000.

Individual should provide course title and year of attendance.

Contesting record procedures:

The Army rules for accessing records, and for contesting contents and appealing initial agency determinations are contained in Army Regulation 340-21; 32 CFR part 505; or may be obtained from the system manager.

Record source categories:

Student biography forms are of IRMC origin and completed by each individual student. Forms are completed either the first day of the course or, in the case of certain specific courses, are mailed to the prospective student requesting return prior to commencement of the course.

Biographies are authorized by each faculty and senior staff member soon after arrival at IRMC. Guest lecturers are requested to voluntarily submit biographies for use in course notebooks. Content is never changed, but in some cases selectively reduced in length so as not to exceed one page. Format and content are generated solely by IRMC member and are subjected only to editorial review.

Exemptions claimed for the system:

None.

A0351c NDU-CI

System name:

DODCI Course Evaluation System (February 22, 1993, 58 FR 10002).

Changes:

System identifier:

Delete entry and replace with “A0351c IRMC”.

* * * * *

A0351c IRMC

System name:

IRMC Course Evaluation System.

System location:

Information Resources Management College, Washington Navy Yard, Washington, DC 20374-5000.

Categories of individuals covered by the system:

All students who have completed a course of instruction presented by the Information Resources Management College (IRMC). These are primarily DoD military and civilian personnel as regular students; personnel from other federal, state and local government agencies who have attended courses on a space available basis; military and civilian personnel from foreign governments who requested and were granted authority to attend courses; and personnel from private industry who are under direct contract to a DoD activity who sponsor their attendance.

Categories of records in the system:

Individual student evaluation of entire course and random sampling of specific lecture presentations. Includes course ID; objectives for attending course; statement concerning realization of personal objectives, numerical or qualitative rating of overall course, lab sessions and/or specific lectures; list of strengths and weaknesses of course; list of lecture subjects of particular benefit or of little use to student; list of lecture subjects which should be expanded or reduced in coverage; and list of topics not covered in course but should be included. Comments concerning course content, sequence, lecture presentation, teaching techniques, audio visual aids, physical facilities and administrative support are solicited and recorded. Categories are posed as questions with ample space to encourage written response to student opinion in a structured but non-restrictive format. These Course Evaluation Forms also contain hard core factual information, i.e., course ID, course dates, student name, rank/rate/grade, branch of service, duty station or agency, and present job title.

Authority for maintenance of the system:

5 U.S.C. 301, Departmental Regulations.

Purpose(s):

The system is used to evaluate course, lecture, teaching techniques and individual instructor effectiveness. It provides basis for modification and revision to course content and sequence and lecture content. It provides input to long-range plan for course update, additions and revisions. The evaluation of all attendees to a particular course are reviewed as a composite group by IRMC faculty members to determine problem areas, trends, and provides a continuous evaluation of course effectiveness.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records and computer hard disk/magnetic tape.

Retrievability:

Course ID and student name.

Safeguards:

Maintained in Student Operations Section Office, which is locked after normal working hours, access controlled by system manager and accessible only to authorized faculty members. Director of Administration and Director delegate on demand.

Retention and disposal:

All completed individual evaluations of students attending a specific course are retained by course ID and course date. Individual student evaluation forms are retained by course for two fiscal years preceding the fiscal year in progress.

System manager(s) and address:

Chief, Student Operations Section, Information Resources Management College, Building 175, Washington Navy Yard, Washington, DC 20374-5000.

Notification procedure:

Individuals seeking to determine whether information about themselves is contained in this system should address written inquiries to the Chief, Student Operations Section, Information Resources Management College, Building 175, Washington Navy Yard, Washington, DC 20374-5000.

Individual should provide course title and year of attendance.

Record access procedures:

Individuals seeking access to information about themselves contained in this system should address written inquiries to the Chief, Student Operations Section, Information Resources Management College, Building 175, Washington Navy Yard, Washington, DC 20374-5000.

Individual should provide course title and year of attendance.

Contesting record procedures:

The Army rules for accessing records, and for contesting contents and appealing initial agency determinations are contained in Army Regulation 340-21; 32 CFR part 505; or may be obtained from the system manager.

Record source categories:

Student course evaluation forms are of IRMC origin and distributed in class and completed by each individual student.

Exemptions claimed for the system:

None.

[FR Doc. 01-31092 Filed 12-17-01; 8:45 am]

BILLING CODE 5001-08-P